DEPARTMENT OF THE INTERIOR

National Park Service

National Register of Historic Places; Notification of Pending Nominations

Nominations for the following properties being considered for listing in the National Register were received by the National Park Service before February 15, 2003. Pursuant to section 60.13 of 36 CFR Part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW., 8th floor, Washington DC 20005; or by fax, 202-343-1836. Written or faxed comments should be submitted by March 24, 2003.

Carol D. Shull,
Keeper of the National Register of Historic Places.

GEORGIA

DeKalb County

Briarcliff—Normandy Apartments, Roughly along Briarcliff Rd., Normandy Dr. and Chalmette Dr., Atlanta, 03000136

Jackson County

Jefferson Historic District, Roughly centered on the downtown central business district of Jefferson extending to city limits to NW and SW, Jefferson, 03000137

Jasper County

Phillips—Turner—Kelly House, 3321 Calvin Rd., Monticello, 03000135

Muscogee County

Peacock Woods-Dimon Circle Historic District, Bounded by Cherokee and Forest Aves. and 13th and 17th Sts., Columbus, 03000134

INDIANA

Allen County

Wabash Railroad Depot, 530 State St., New Haven, 03000146

Grant County

Jay, Abijah C., House, 118 W 7th St., Marion, 03000145

Jenkins, Israel, House, 7453 E 400 S, Marion, 03000139

Hendricks County

Hendricks County Bridge Number 316, Center Rd., Friendship Gardens over White Lick Creek, Plainfield, 03000140

Jackson County

Beatty—Trimpe Farm, 4475 E IN 258, Seymour, 03000138

Knox County

Hack and Simon Office Building, 1006 N 3rd St., Vincennes, 03000141

Lake County

Lowell Commercial Historic District, 305-519 Commercial Ave. and 108-110 Clark St., Lowell, 03000144

Marion County

Franklin, Benjamin, Public School Number 36, (Public School Buildings in Indianapolis Built Before 1940 MPS) 2801 N. Capitol Ave., Indianapolis, 03000143

Indianapolis Park and Boulevard System, Roughly bounded by 38th St., Emerson, Southern and Tibbs Aves., ext. to Fall Creek and Pleasant Run Pkwys to Shadeland, Indianapolis, 03000149

Morgan County

Cedar Point Farm, 8185 E. IN 252, Morgantown, 03000148

Mooresville Commericial Historic District, roughly, one blk N,S, E and W of the corner of Main and Indiana, Mooresville, 03000147

Tippecanoe County

Dayton Historic District, Roughly bounded by Walnut, Harrison, and Pennsylvania Sts., Dayton, 03000142

TENNESSEE

Haywood County

Woodland Baptist Church, 885 Woodland Church Rd., Woodland, 03000150

Montgomery County

Guildfield Missionary Baptist Church, (Rural African-American Churches in Tennessee MPS) Guildfield Church Rd., South Guthrie, 03000151

UTAH

Davis County

West Bountiful Historic District, 800 West, 400 North, 1000 North, West Bountiful, 03000158

Kane County

Kanab (Union Pacific) Lodge, (Kanab, Utah MPS) 86 S 200 W, Kanab, 03000153

Kanab Hotel and Cafe, (Kanab, Utah MPS) 19 W. Center St., Kanab, 03000152

Salt Lake County

Salt Lake Engineering Works—Bogue Supply Company Building, 741 W 400 S, Salt Lake City, 03000156

San Juan County

Jones, Frederick Issac and Mary M., House, 117 E 200 S, Monticello, 03000154

Summit County

Echo Post Office, 3455 S. Echo Rd., Echo, 03000159

McPolin Farmstead, UT 224, Park City, 03000155

Utah County

Springville Historic District, (Springville MPS) Roughly bounded by 400 North, 400 East, 800 South, Main St., 400 South and 400 West, Springville, 03000157

WASHINGTON

King County

Cooper, Frank B., Cooper Elementary School, 4408 Delridge Way SW, Seattle, 03000161

Gaffney's Lake Wilderness Lodge, 22500 SE 248th St., Maple Valley, 03000163

Northern Bank and Trust Building, 1500 Fourth Ave., Seattle, 03000165

Lewis County

Centralia Downtown Historic District, Roughly bounded by Center St., Burlington Northern right-of-way, Walnut St., and Pearl St., Centralia, 03000164

Grace Evangelical Church of Vader, 618 D St., Vader, 03000162

Pierce County

North Slope Historic District, Area bounded by Division Ave., N. Grant Ave, N. Steele St., and N I St., Tacoma, 03000160

WISCONSIN

Clark County

First Church of Christ, Scientist, 132 E Fourth St., Neillsville, 03000168

Dane County

Cold, Jens and Ingeborg, House, 111 S Fifth St., Stoughton, 03000169

Door County

Bullhead Point Historical and Archeological District, (Great Lakes Shipwreck Sites of Wisconsin MPS) N. Duluth Ave., Sturgeon Bay, 03000167

Oneida County

Jollywood, 999 Leatzow Rd., Three Lakes, 03000166

[FR Doc. 03-5502 Filed 3-6-03; 8:45 am]

BILLING CODE 4310-70-P